DEPARTMENT OF COMMERCE

Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Madrid Protocol.

Form Number(s): PTO-2131, PTO-2132, PTO-2133.

Agency Approval Number: 0651-0051.

Type of Request: Revision of a currently approved collection.

Burden: 1,347 hours annually.

Number of Respondents: 5,330 responses per year.

Avg. Hours per Response: The USPTO estimates that it will take the public approximately 15 minutes (0.25 hours) to one hour to complete the information in this collection, including the time to gather the necessary information, prepare the forms or documents, and submit the completed request.

Needs and Uses: The Madrid Protocol is an international treaty that allows a trademark owner to seek registration in any of the participating countries by filing a single international application. The public uses this collection to submit applications for international registration and related requests to the USPTO under the Madrid Protocol. This collection includes electronic forms for filing the Application for International Registration (PTO-2131), Subsequent Designation (PTO-2132), and Response to Notice of Irregularity (PTO-2133) online through the USPTO Web site.

Affected Public: Individuals or households; businesses or other for-profits; and not-for-profit institutions.

Frequency: On occasion.

Respondent's Obligation: Required to obtain or retain benefits.

OMB Desk Officer: Nicholas A. Fraser, e-mail: Nicholas_A._Fraser@omb. eop.gov.

Once submitted, the request will be publicly available in electronic format through the Information Collection Review page at http://www.reginfo.gov.

Paper copies can be obtained by:

• E-mail: Susan.Fawcett@uspto.gov. Include “0651-0051 Madrid Protocol copy request” in the subject line of the message.

• Fax: 571-273-0112, marked to the attention of Susan K. Fawcett.

• Mail: Susan K. Fawcett, Records Officer, Office of the Chief Information Officer, Administrative Management Group, United States Patent and Trademark Office, P.O. Box 1450, Alexandria, VA 22313-1450.

Written comments and recommendations for the proposed information collection should be sent on or before May 18, 2009 to Nicholas A. Fraser, OMB Desk Officer, via e-mail at Nicholas_A._Fraser@omb.eop.gov, or by fax to 202-395-5167, marked to the attention of Nicholas A. Fraser.

Susan K. Fawcett,
Records Officer, USPTO, Office of the Chief Information Officer, Administrative Management Group.

[FR Doc. E9-8738 Filed 4-15-09; 8:45 am]

BILLING CODE 3510-16-P